DEPARTMENT OF COMMERCE

International Trade Administration

[A-570-894]

Certain Tissue Paper Products from the People's Republic of China: Final Results and Final Rescission, in Part, of Antidumping Duty Administrative Review

AGENCY: Import Administration, International Trade Administration, Department of Commerce.

SUMMARY: On April 4, 2008, the Department of Commerce (“the Department”) published the preliminary results of the second administrative review of the antidumping duty order on certain tissue paper products (“tissue paper”) from the People's Republic of China (“PRC”). See Certain Tissue Paper Products from the People's Republic of China: Preliminary Results and Partial Rescission of Antidumping Duty Administrative Review, 73 FR 18497 (April 4, 2008) (“Preliminary Results”). We gave interested parties an opportunity to comment on the Preliminary Results. Based on our analysis of the comments received, we have made changes to the surrogate value for labor for the final results. We find that Max Fortune Industrial Limited and Max Fortune (FETDE) Paper Products Co., Ltd. (collectively, Max Fortune), has not sold subject merchandise at less than normal value during the period of review (“POR”), March 1, 2006, through February 28, 2007.

DATES: Effective Date: October 6, 2008.

FOR FURTHER INFORMATION CONTACT: Irene Gorelik, AD/CVD Operations, Office 9, Import Administration, International Trade Administration, U.S. Department of Commerce, 14th Street and Constitution Avenue, NW., Washington, DC 20230; telephone: (202) 482-6905.

SUPPLEMENTARY INFORMATION:

Background

We published the preliminary results of the second administrative review on April 4, 2008, in the Federal Register. See Preliminary Results. On May 5, 2008, Seaman Paper Company of Massachusetts (“Petitioner”) and Max Fortune filed their case briefs. On May 12, 2008, Petitioner and Max Fortune filed rebuttal briefs. On June 30, 2008, the Department placed import entry packages obtained from U.S. Customs and Border Protection (“CBP”) on the record of this administrative review. The Department did not receive any comments regarding the CBP entry packages. On July 14, 2008, the Department extended the final results of this administrative review. See Certain Tissue Paper Products from the People's Republic of China: Notice of Extension of Time Limit for Final Results of Second Antidumping Duty Administrative Review, 73 FR 40295 (July 14, 2008). No parties requested a hearing.

Analysis of Comments Received

All issues raised in the briefs are addressed in the Memorandum to David M. Spooner, Assistant Secretary for Import Administration, regarding Issues and Decision Memorandum for the Final Results in the Second Administrative Review of Certain Tissue Paper Products from the People's Republic of China, dated October 1, 2008 (“Issues and Decision Memorandum”), which is hereby adopted by this notice. A list of the issues raised, all of which are in the Issues and Decision Memorandum, is attached to this notice as Appendix I. Parties can find a complete discussion of all issues raised in the briefs and the corresponding recommendations in this public memorandum, which is on file in the Central Records Unit, room 1117 of the Department of Commerce. In addition, a complete version of the Issues and Decision Memorandum can be accessed directly on the Internet at http://ia.ita.doc.gov/frn/release/release.html. The paper copy and electronic version of the Issues and Decision Memorandum are identical in content.

Scope of the Antidumping Duty Order

The tissue paper products subject to this order are cut-to-length sheets of tissue paper having a basis weight not exceeding 29 grams per square meter. Tissue paper products subject to this order may or may not be bleached, dye-colored, surface-colored, glazed, surface decorated or printed, sequined, crinkled, embossed, and/or die cut. The tissue paper subject to this order is in the form of cut-to-length sheets of tissue paper with a width equal to or greater than one-half (0.5) inch. Subject tissue paper may be flat or folded, and may be packaged by banding or wrapping with paper or film, by placing in plastic or film bags, and/or by placing in boxes for distribution and use by the ultimate consumer. Packages of tissue paper subject to this order may consist solely of tissue paper of one color and/or style, or may contain multiple colors and/or styles.

The merchandise subject to this order does not have specific classification numbers assigned to them under the Harmonized Tariff Schedule of the United States (“HTSUS”). Subject merchandise may be under one or more of several different subheadings, including: 4802.30; 4802.54; 4802.61; 4802.62; 4802.69; 4804.31.1000; 4804.31.2000; 4804.31.4020; 4804.31.4040; 4804.31.6000; 4804.39; 4805.91.1090; 4805.91.5000; 4805.91.7000; 4806.40; 4808.30; 4808.90; 4811.90; 4823.90; 4820.50.00; 4802.90.00; 4805.91.90; 9505.90.40. The tariff classifications are provided for convenience and customs purposes; however, the written description of the scope of this order is dispositive.

Excluded from the scope of this order are the following tissue paper products: (1) Tissue paper products that are coated in wax, paraffin, or polymers, of a kind used in floral and food service applications; (2) tissue paper products that have been perforated, embossed, or die-cut to the shape of a toilet seat, i.e., disposable sanitary covers for toilet seats; (3) toilet or facial tissue stock, towel or napkin stock, paper of a kind used for household or sanitary purposes, cellulose wadding, and webs of cellulose fibers (HTSUS 4803.00.20.00 and 4803.00.40.00).

Partial Rescission of Administrative Review

In the Preliminary Results, the Department issued a notice of intent to rescind this administrative review with respect to: (1) Samsam Production Limited, (2) Guangzhou Baxi Printing Products Limited, (3) Guilin Samsam Paper Products Ltd., (4) Vietnam Quijiang Paper Co., Ltd., (5) PT Grafitecindo Ciptaprima, (6) PT Printec Perkasa, (7) PT Printec Perkasa II, (8) PT Sansico Utama, (9) Foshan Sansico Co., Ltd., and (10) Sansico Asia Pacific Limited. Each of these companies certified that they did not export subject tissue paper from the PRC to the United States during the POR, which the Department corroborated by reviewing PRC tissue paper import data maintained by CBP, and found no discrepancies with the statements made by these companies. See Preliminary Results, 73 FR at 18499. Additionally, consistent with the Tariff Act of 1930, as amended (“the Act”) and Department practice, we also preliminarily rescinded the review with respect to Guilin Qifeng Paper Co., Ltd. (“Guilin Qifeng”) because the record showed no suspended entries of merchandise exported by Guilin Qifeng during the POR. See Preliminary Results, 73 FR at 18500.

Subsequent to the Preliminary Results, no information was submitted on the record indicating that the above companies made shipments to the United States of subject merchandise during the POR. Thus, in accordance with 19 CFR 351.213(d)(3) and consistent with our practice, we are rescinding this review with respect to Samsam Production Limited, Guangzhou Baxi Printing Products Limited, Guilin Samsam Paper Products Ltd., Vietnam Quijiang Paper Co., Ltd., PT Grafitecindo Ciptaprima, PT Printec Perkasa, PT Printec Perkasa II, PT Sansico Utama, Foshan Sansico Co., Ltd., and Sansico Asia Pacific Limited. Additionally, the Department is rescinding the review with respect to Guilin Qifeng as no information was submitted on the record challenging our preliminary intent to rescind the review for this company.

Separate Rates

Max Fortune requested a separate, company-specific antidumping duty rate. In the Preliminary Results, we found that Max Fortune met the criteria for the application of a separate antidumping duty rate. See Preliminary Results, 73 FR at 18500. The Department did not receive comments on this issue prior to these final results. Moreover, we have not received any information since the Preliminary Results with respect to Max Fortune that would warrant reconsideration of our separate-rates determination. Therefore, we continue to assign an individual dumping margin to Max Fortune for this review period.

Changes Since the Preliminary Results

Based on comments received from the interested parties, we have revised the labor surrogate value used in Max Fortune's margin calculation. For the final results, we will continue to use regression-based wage data, but will use U.S. $1.04 as the revised wage for the PRC in the final results, which continues to be based on the reported experience of several countries, but applies the more recent 2007 calculations, based on 2005 wage rate data, as published by the Department in May 2008. See Issues and Decision Memorandum, at Comment 4.

Use of Facts Available

Sections 776(a)(1) and 776(a)(2)(B) of the Act direct the Department to use facts available if necessary information is not available on the record of an antidumping proceeding. We determined in the Preliminary Results that, pursuant to sections 776(a) and 782(d) of the Act, Max Fortune did not provide certain information relevant to the Department's analysis because it failed to report ink and dye consumption on a color-specific basis. Max Fortune stated it does not maintain records for dye and ink consumption in the papermaking and paper printing stages of production on a color specific basis. Thus, Max Fortune could not report ink and dye consumption data in a manner requested by the Department. As a result, we determined that it was necessary to apply facts otherwise available to Max Fortune. Petitioner argues that we should apply an adverse inference, pursuant to section 776(b) of the Act, to Max Fortune's calculation. However, we have concluded that Max Fortune acted to the best of its ability in providing responses to the Department's questionnaires. Thus, consistent with the Department's application in the previous segment of the instant review and in the Preliminary Results, we will not apply an adverse inference, but will continue to apply the average Indian import values for three dye types, which are commonly used in the production of tissue paper, to value the aggregate amount of dye consumed in the production of the subject tissue paper. See Issues and Decision Memorandum at Comment 1 for a detailed analysis.

Additionally, in the Preliminary Results, the Department invited comments from interested parties regarding whether or not it should alter its requirements for reporting ink and dye consumption in future segments. See Preliminary Results, 73 FR at 18501. Upon analyzing the comments received from interested parties with respect to the reporting requirement for ink and dye consumption on a CONNUM-specific basis, we have determined that the record does not contain sufficient evidence necessary to revise the model-match criteria. Therefore, we will not make any changes, at this time, to the model-match criteria and continue to require that companies in future segments report ink and dye consumption on a CONNUM-specific basis. See Issues and Decision Memorandum at Comment 2, for a detailed analysis.

Final Results of Review

We determine that the following antidumping duty margin exists:

Certain Tissue Paper From the PRC Individually Reviewed Exporters
Max Fortune Industrial Ltd | 0.00%

The Department will disclose calculations performed for these final results to the parties within five days of the date of publication of this notice in accordance with 19 CFR 351.224(b).

Assessment Rates

Upon issuance of the final results, the Department will determine, and CBP shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. We will instruct CBP to assess antidumping duties on all appropriate entries covered by this review if any importer-specific assessment rate calculated in the final results of this review is above de minimis.

Cash Deposit Requirements

The following cash deposit requirements will be effective upon publication of these final results of this administrative review for all shipments of the subject merchandise entered, or withdrawn from warehouse, for consumption on or after the publication date, as provided for by section 751(a)(2)(C) of the Act: (1) For Max Fortune, the Department has calculated a zero margin for these final results, and therefore no cash deposit will be required for this company; (2) for previously investigated or reviewed PRC and non-PRC exporters not listed above that have separate rates, the cash deposit rate will continue to be the exporter-specific rate published for the most recent period; (3) for all PRC exporters of subject merchandise that have not been found to be entitled to a separate rate, including those companies for which this review has been rescinded, the cash deposit rate will be the PRC-wide rate of 112.64 percent; and (4) for all non-PRC exporters of subject merchandise which have not received their own rate, the cash deposit rate will be the rate applicable to the PRC exporters that supplied that non-PRC exporter. These deposit requirements, when imposed, shall remain in effect until publication of the final results of the next administrative review.

Notification to Interested Parties

This notice also serves as the final reminder to importers of their responsibility under19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (“APO”) of their responsibility concerning the return/destruction or conversion to judicial protective order of proprietary information disclosed under APO in accordance with 19 CFR 351.305(a)(3). Failure to comply is a violation of the APO.

This administrative review and this notice are published in accordance with sections 751(a)(1) and 777(i)(1) of the Act and 19 CFR 351.221(b)(5).

Dated: September 29, 2008.
David M. Spooner,
Assistant Secretary for Import Administration.

APPENDIX I

General Issues

Comment 1: Reporting of Ink and Dye Consumption

Comment 2: Reporting Requirements for Ink and Dye

Comment 3: Steam Coal Surrogate Value

Comment 4: Labor Surrogate Value

Comment 5: Treatment of Negative Dumping Margins (“Zeroing”)

[FR Doc. E8-23588 Filed 10-3-08; 8:45 am]

BILLING CODE 3510-DS-P